DEPARTMENT OF THE INTERIOR

Bureau of Land Management

DEPARTMENT OF AGRICULTURE

Forest Service

[CA 668-02-1610-DO-083A]

Notice of intent To Prepare a Land and Resource Management Plan

AGENCY: Bureau of Land Management; Palm Springs-South Coast Field Office, and the United States Forest Service, San Bernardino National Forest.

ACTION: Notice of intent to prepare a Land and Resource Management Plan (LRMP) for the Santa Rosa and San Jacinto Mountains National Monument, designated by Congress on October 24, 2000. This action will require a single Environmental Impact Statement (EIS). The planning area is located in Riverside County, California.

SUMMARY: This document provides notice that the Bureau of Land Management (BLM) and United States Forest Service (USFS) intend to prepare an LRMP with an associated EIS for the Santa Rosa and San Jacinto Mountains National Monument located within the BLM Palm Springs-South Coast Field Office and the San Bernardino National Forest. This planning activity encompasses approximately 150,800 acres of Federally managed public land. The plan will fulfill the needs and obligations set forth by the National Environmental Policy Act (NEPA), the Federal Land Policy and Management Act (FLPMA), the Forest and Rangeland Renewable Resources Planning Act of 1974, the National Forest Management Act of 1976, the Santa Rosa and San Jacinto Mountains National Monument Act of 2000, and BLM and USFS management policies. The BLM and USFS will work collaboratively with interested parties to identify the management decisions that are best suited to local, regional, and national needs and concerns. The public scoping process will identify planning issues, develop planning criteria, and will include an evaluation of the existing BLM and USFS land and resource management plans in the context of the needs and interests of the public and conservation of natural and cultural resources specified in the legislation.

DATES: This notice initiates the public scoping process. Comments on issues and planning criteria may be submitted in writing to the address listed below. All public meetings will be announced through the local news media, newsletters, and the BLM web site (www.ca.blm.gov) at least 15 days prior to the event. The minutes and list of attendees for each meeting will be available to the public and open for 30 days to any participant who wishes to clarify the views they expressed.

Public Participation: Public meetings will be held throughout the plan scoping and document preparation period. In order to ensure local community participation and input, public meeting locations will be rotated among the communities located within the Santa Rosa and San Jacinto Mountains and the cities of the Coachella Valley, Riverside County. Meeting sites will also be provided throughout southern California commensurate with interest in the National Monument. Early and ongoing participation is encouraged and will help determine the future management of Federally managed public lands within the Santa Rosa and San Jacinto Mountains National Monument. In addition to the ongoing public participation process, formal opportunities for public participation will be provided through comment on the alternatives and upon publication of the draft LRMP/EIS. Written comments will be accepted and considered throughout the entire planning process.

ADDRESSES: Written comments should be sent to Mr. James G. Kenna—Field Manager, Palm Springs-South Coast Field Office, Bureau of Land Management, P.O. Box 581260, North Palm Springs, CA 92258; or by fax at (760) 251-4899 or by email at cdunning@ca.blm.gov. Documents pertinent to this proposal, including comments with the names and addresses of respondents, will be available for public review at the Palm Springs-South Coast Field Office located at 690 W. Garnet Avenue, North Palm Springs, California, during regular business hours 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Ms. Connell Dunning at (760) 251-4817, cdunning@ca.blm.gov, or Elena Misquez at (760) 251-4810, emisquez@ca.blm.gov.

SUPPLEMENTARY INFORMATION: The creation of the Santa Rosa and San Jacinto Mountains National Monument along with the changing needs and interests of the public necessitates a separate stand-alone plan for the Monument. This action requires a maintenance action to BLM's California Desert Conservation Area Plan (as amended in 1980) to change its planning boundary and an amendment to the USFS's San Bernardino National Forest Land and Resource Management Plan. A management plan for the Santa Rosa and San Jacinto Mountains National Monument will facilitate coordination and efficiency between the BLM and USFS as joint Federal leads, and to focus collaborative efforts with state and local government, the Agua Caliente Band of Cahuilla Indians and interested public. This joint BLM-USFS planning document will require a single EIS and two separate Records of Decision (ROD).

Preliminary issues and management concerns have been identified by BLM and USFS personnel, other agencies, and in meetings with individuals and user groups. The preliminary issues identified thus far represent the USFS and BLM's knowledge to date on the existing issues and concerns with current management, but are not limited to these. The major issue themes that will be addressed in the plan effort include:

• Integrating monument management with community, tribal, and other agency needs.

• Recreation/visitor use and safety.

• Access and transportation on the public lands; management and protection of public land resources; and balancing multiple uses.

After gathering public comments on what issues the plan should address, the suggested issues will be placed in one of three categories:

1. Issues to be resolved in the plan.

2. Issues resolved through policy or administrative action.

3. Issues beyond the scope of this plan.

Rationale will be provided in the plan for each issue placed in category two or three. In addition to these major issues, a number of management questions and concerns will be addressed in the plan. The public is encouraged to help identify these questions and concerns during the scoping phase.

An interdisciplinary approach will be used to develop the plan in order to consider the variety of resource issues and concerns identified. Disciplines involved in the planning process will include specialists with expertise in outdoor recreation, archaeology, paleontology, wildlife and plants, lands and realty, hydrology, soils, geographic information systems, rangeland management, minerals and geology, forestry, sociology and economics. Where necessary, outside expertise may be used.

Dated: October 11, 2001.
Danella George,
Acting Field Manager, Bureau of Land Management.
Gene Zimmerman,
Forest Supervisor, Forest Service, USDA.

[FR Doc. 02-6166 Filed 3-13-02; 8:45 am]

BILLING CODE 4310-32-P